DEPARTMENT OF TRANSPORTATION

Federal Aviation Administration

14 CFR Part 39

[Docket No. 2003-NM-81-AD; Amendment 39-13733; AD 2004-14-24]

RIN 2120-AA64

Airworthiness Directives; Empresa Brasileira de Aeronautica S.A. (EMBRAER) Model EMB-120 Series Airplanes

AGENCY: Federal Aviation Administration, DOT.

ACTION: Final rule.

SUMMARY: This amendment supersedes an existing airworthiness directive (AD), applicable to certain Empresa Brasileira de Aeronautica S.A. (EMBRAER) Model EMB-120 series airplanes, that currently requires measuring the gap between the bellcrank and the body of the rotary variable inductive transducers (RVITs) of the aileron and elevator, performing corrective action if necessary, and torquing the bolt that attaches the bellcrank to the RVIT shaft. This amendment requires replacing the aileron and elevator RVIT bellcranks with new, improved bellcranks. The actions specified by this AD are intended to prevent restricted movement of the aileron or elevator, which could result in reduced controllability of the airplane. This action is intended to address the identified unsafe condition.

DATES: Effective August 23, 2004.

The incorporation by reference of EMBRAER Service Bulletin 120-31-0046, Revision 01, dated December 27, 2002, as listed in the regulations, is approved by the Director of the Federal Register as of August 23, 2004.

The incorporation by reference of EMBRAER Alert Service Bulletin 120-31-A046, dated July 13, 2001, as listed in the regulations, was approved previously by the Director of the Federal Register as of August 27, 2001 (66 FR 43076, August 17, 2001).

ADDRESSES: The service information referenced in this AD may be obtained from Empresa Brasileira de Aeronautica S.A. (EMBRAER), PO. Box 343—CEP 12.225, Sao Jose dos Campos—SP, Brazil. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2001-17-01, amendment 39-12392 (66 FR 43076, August 17, 2001), which is applicable to certain Empresa Brasileira de Aeronautica S.A. (EMBRAER) Model EMB-120 series airplanes, was published in the Federal Register on May 3, 2004 (69 FR 24105). The action proposed to require replacing the aileron and elevator RVIT bellcranks with new, improved bellcranks.

Comments

Interested persons have been afforded an opportunity to participate in the making of this amendment. No comments were submitted in response to the proposal or the FAA's determination of the cost to the public.

Conclusion

The FAA has determined that air safety and the public interest require the adoption of the rule as proposed.

Cost Impact

There are approximately 201 Model EMB-120 series airplanes of U.S. registry that will be affected by this AD.

The actions that are currently required by AD 2001-17-01 take approximately 1 or 2 work hours per airplane to accomplish, at an average labor rate of $65 per work hour. Based on these figures, the cost impact of the currently required actions on U.S. operators is estimated to be between $13,065 and $26,130; or between $65 and $130 per airplane.

The new actions that are required by this new AD will take approximately 1 or 2 work hours per airplane to accomplish, at an average labor rate of $65 per work hour. Required parts will cost approximately $810 per airplane. Based on these figures, the cost impact of the new requirements of this AD on U.S. operators is estimated to be between $175,875 and $188,940; or between $875 and $940 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12392 (66 FR 43076, August 17, 2001), and by adding a new airworthiness directive (AD), amendment 39-13733, to read as follows:

2004-14-24 Empresa Brasileira de Aeronautica S.A. (EMBRAER): Amendment 39-13733. Docket 2003-NM-81-AD. Supersedes AD 2001-17-01, Amendment 39-12392.

Applicability: Model EMB-120 series airplanes, certificated in any category; with serial numbers 120004 and 120006 through 120355 inclusive; that have been modified in accordance with EMBRAER Service Bulletin 120-31-0039, 120-31-0040, 120-31-0041, or 120-31-0042.

Compliance: Required as indicated, unless accomplished previously.

To prevent restricted movement of the aileron or elevator, which could result in reduced controllability of the airplane, accomplish the following:

Restatement of the Requirements of AD 2001-17-01: Inspection and Corrective Action, if Necessary

(a) Within 50 flight hours after August 27, 2001 (the effective date of AD 2001-17-01, amendment 39-12392), measure the gap between the bellcrank and the body of the rotary variable inductive transducers (RVITs) of the elevator and aileron, in accordance with EMBRAER Alert Service Bulletin 120-31-A046, dated July 13, 2001.

(1) If the gap is within the limits specified by the alert service bulletin: Prior to further flight, tighten the bolt that attaches the bellcrank to the RVIT shaft to a torque of 40-45 inch pounds, in accordance with the alert service bulletin.

(2) If the gap is not within the limits specified by the alert service bulletin: Prior to further flight, accomplish all applicable corrective actions (including inspecting to detect damage of the connecting rod, replacing any damaged rod with a new rod having the same part number, and adjusting the gap between the bellcrank and the RVIT body), and tighten the bolt that attaches the bellcrank to the RVIT shaft to a torque of 40-45 inch pounds; in accordance with the alert service bulletin.

New Actions Required by This AD: Corrective Action

(b) Within 4,000 flight hours after the effective date of this AD: Replace the aileron and elevator RVIT bellcranks having part number (P/N) 123-82549-007 or P/N 123-82549-009, as applicable, with new, improved bellcranks having P/N 145-51146-001 or P/N 145-51147-001, respectively, in accordance with Paragraph 2.8 of the Accomplishment Instructions of EMBRAER Service Bulletin 120-31-0046, Revision 01, dated December 27, 2002.

(c) Replacement of the bellcranks accomplished before the effective date of this AD per EMBRAER Service Bulletin 120-31-0046, dated February 20, 2002, are considered acceptable for compliance with the corresponding action specified in this AD.

Alternative Methods of Compliance

(d) In accordance with 14 CFR 39.19, the Manager, International Branch, ANM-116, FAA, Transport Airplane Directorate, is authorized to approve alternative methods of compliance for this AD.

Incorporation by Reference

(e) The actions shall be done in accordance with EMBRAER Service Bulletin 120-31-0046, Revision 01, dated December 27, 2002; and EMBRAER Alert Service Bulletin 120-31-A046, dated July 13, 2001; as applicable.

(1) The incorporation by reference of EMBRAER Service Bulletin 120-31-0046, Revision 01, dated December 27, 2002, is approved by the Director of the Federal Register in accordance with 5 U.S.C. 552(a) and 1 CFR part 51.

(2) The incorporation by reference of EMBRAER Alert Service Bulletin 120-31-A046, dated July 13, 2001, was approved previously by the Director of the Federal Register as of August 27, 2001 (66 FR 43076, August 17, 2001).

(3) Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in Brazilian airworthiness directive 2001-07-01R1, dated February 10, 2003.

Effective Date

(f) This amendment becomes effective on August 23, 2004.

Issued in Renton, Washington, on July 8, 2004.
Kevin M. Mullin,
Acting Manager, Transport Airplane Directorate, Aircraft Certification Service.

[FR Doc. 04-16032 Filed 7-16-04; 8:45 am]

BILLING CODE 4910-13-P